NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 23, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, at the above address, 703-292-7420, or ACApermits@nsf.gov.

SUPPLEMENTARY INFORMATION: The National Science Foundation, as directed by the Antarctic Conservation Act of 1978 (Pub. L. 95-541, 45 CFR 670) as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2022-003

1. Applicant: Dr. George Watters, Director, AMLR Program, Southwest Fisheries Science Center, National Marine Fisheries Service, 8901 La Jolla Shores Drive, La Jolla, CA 92037

Activity for Which Permit is Requested: Waste management permit. This permit application pertains to ship and shore-based research and logistic activities conducted by the National Oceanic and Atmospheric Administration's (NOAA) Antarctic Marine Living Resources (AMLR) Program. The AMLR Program conducts research from a vessel platform in the Antarctic Peninsula region, collecting environmental, oceanographic, primary productivity, finfish, and prey data. Research is also conducted at two temporary field camps in the South Shetland Islands, Antarctica: Cape Shirreff and Copacabana. The scope of the application pertains to environmental and waste management issues resulting from proposed research, logistic and construction activities by the U.S. AMLR program between 2021 and 2026.

Ocean-based research activities will include the deployment of retrievable instrumentation. Instruments to be deployed include several long-range underwater gliders to measure environmental conditions and population densities, as well as up to 20 stationary moorings. Unoccupied Aerial Systems (UAS) will also be deployed from research vessels for surveying and censusing purposes. Deployment of all retrievable instrumentation will be performed by trained personnel associated with the research project.

Activities proposed at the Cape Shirreff field camp include the necessary construction of new temporary camp structures and the removal of previous temporary structures. Care will be taken to minimize environmental disturbance throughout construction and resulting structures are planned to occupy an approximate footprint similar to that of existing structures. Continuation of long-term research activities at the Cape Shirreff field camp will include deployment and maintenance of up to 30 autonomous cameras to assist in studies of avian breeding colonies, deployment of snow gauges and continued use of UAS for census surveying of surrounding fauna. Research activities proposed at the Copacabana field camp are similar to those at Cape Shirreff, including deployment of autonomous cameras and use of UAS for surveying purposes. All UAS pilots are licensed FAA remote aircraft pilots and care will be taken to follow all best practices for UAS operation in polar regions along with all appropriate safety measures.

Wastes and designated pollutants associated with typical field camp operations will be generated, released, stored, and removed at both camps. The field camps will release wastes to air in the form of emissions resulting from the combustion of gasoline, propane, and charcoal. Releases of wastes to water will be limited to greywater and human sewage only. Wastes and designated pollutants resulting from scientific research include materials used to mark animals and attach necessary instrumentation. Additional waste may be generated by construction activities at Cape Shirreff, but mitigation measures will be put in place to minimize the introduction of waste into the environment. For designated pollutants stored at field camps, strict protocols for storage and handling will be followed. All U.S. AMLR personnel will receive proper training on handling and management of designated pollutants prior to deployment.

Location: Cape Shirreff, Livingston Island; Copacabana, western shore of Admiralty Bay; Western Antarctic Peninsula.

Dates of Permitted Activities: October 1, 2021-July 31, 2026.

Erika N. Davis,
Program Specialist, Office of Polar Programs.

[FR Doc. 2021-15677 Filed 7-22-21; 8:45 am]

BILLING CODE 7555-01-P